DEPARTMENT OF DEFENSE

[Docket Number: DARS-2020-0021; OMB Control Number 0704-0272]

Information Collection Requirement; Defense Federal Acquisition Regulation Supplement; Occupational Safety, Drug-Free Work Force and Related Clauses

AGENCY: Defense Acquisition Regulations System, Department of Defense (DoD).

ACTION: Notice.

SUMMARY: The Defense Acquisition Regulations System has submitted to OMB for clearance, the following proposed revision and extension of a collection of information under the provisions of the Paperwork Reduction Act.

DATES: Consideration will be given to all comments received by December 21, 2020.

SUPPLEMENTARY INFORMATION:

Title and OMB Number: Environment, Energy and Water Efficiency, Renewable Energy Technologies, Occupational Safety, and Drug-free Workplace—DoD FAR Supplement Part 223; OMB Control Number 0704-0272.

Type of Request: Revision.

Affected Public: Businesses or other for-profit and not-for-profit institutions.

Respondent's Obligation: Required to obtain or retain benefits.

Respondents: 4,527.

Annual Responses: 70,346.

Estimated Hours: 581,165 hours (48,525 reporting hours and 532,640 recordkeeping hours).

Reporting Frequency: On occasion.

Needs and Uses: This information collection requires that an offeror or contractor submit information to DoD in response to DFARS solicitations, four contract clauses relating to occupational safety and one clause relating to the drug-free work force program. DoD contracting officers use this information to—

○ Verify compliance with requirements for labeling of hazardous materials;

○ Ensure contractor compliance and monitor subcontractor compliance with DoD 4145.26-M, DoD Contractors' Safety Manual for Ammunition and Explosives, and minimize risk of mishaps;

○ Identify the place of performance of all ammunition and explosives work; and

○ Ensure contractor compliance and monitor subcontractor compliance with DoD 5100.76-M, Physical Security of Sensitive Conventional Arms, Ammunition, and Explosives.

○ Ensure compliance with the clause program requirements with regard to programs for achieving the objective of a drug-free work force; requires contractor recordkeeping.

This information collection addresses the following requirements:

○ DFARS 252.223-7001, Hazard Warning Labels. Paragraph (c) requires all offerors to list which hazardous materials will be labeled in accordance with certain statutory requirements instead of the Hazard Communication Standard. Paragraph (d) requires only the apparently successful offeror to submit, before award, a copy of the hazard warning label for all hazardous materials not listed in paragraph (c) of the clause.

○ DFARS 252.223-7002, Safety Precautions for Ammunition and Explosives. Paragraph (c)(2) requires the contractor, within 30 days of notification of noncompliance with DoD 4145.26-M, to notify the contracting officer of actions taken to correct the noncompliance. Paragraph (d)(1) requires the contractor to notify the contracting officer immediately of any mishaps involving ammunition or explosives. Paragraph (d)(3) requires the contractor to submit a written report of the investigation of the mishap to the contracting officer. Paragraph (g)(4) requires the contractor to notify the contracting officer before placing a subcontract for ammunition or explosives.

○ DFARS 252.223-7003, Changes in Place of Performance—Ammunition and Explosives. Paragraph (a) requires the offeror to identify, in the Place of Performance provision of the solicitation, the place of performance of all ammunition and explosives work covered by the Safety Precautions for Ammunition and Explosives clause of the solicitation. Paragraphs (b) and (c) require the offeror or contractor to obtain written permission from the contracting officer before changing the place of performance after the date set for receipt of offers or after contract award.

○ DFARS 252.223-7007, Safeguarding Sensitive Conventional Arms, Ammunition, and Explosives. Paragraph (e) requires the contractor to notify the cognizant Defense Security Service field office within 10 days after award of any subcontract involving sensitive conventional arms, ammunition, and explosives within the scope of DoD 5100.76-M.

○ DFARS 252.223-7004, Drug-Free Work Force. The clause requires that certain contractors maintain records necessary to demonstrate reasonable efforts to eliminate the unlawful use by contractor employees of controlled substances. DoD does not regularly collect any information with regard to this clause.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer D. Johnson,
Regulatory Control Officer, Defense Acquisition Regulations System.

[FR Doc. 2020-25708 Filed 11-19-20; 8:45 am]

BILLING CODE 5001-06-P